DEPARTMENT OF LABOR

Employment and Training Administration

[TA-W-72,519]

EDS, an HP Company (Re-Branded as HP—Enterprise Services) Including On-Site Workers From: Abel Personnel Inc., Advantage Tech Inc., Aerotek, Allied Network Solutions Inc., Analysts International Corp., AppleOne, Assist Cornerstone Technologies, Banctec Inc., Bucher and Christian Consulting Inc., Ciber Inc., Compucom Systems Compuware Corp Comsys Information Technology SVC, Diversified Systems Inc., E-Corn LLC, Farrington Associates Inc., Kelly Services Inc., Logica North America Inc., Manpower Inc. Clerical, Manpower Inc.—Technical, Microsoft Corp, Ntelicor, OAO Technology Solutions Inc., Optimum Technology, Oracle USA Inc., Pinnacle Technical Resources Inc., Professional Data Dimensions, Randstad Staffing Services, S2tech, Sethi Business Group, Smartit Staffing Inc., Spherion Corporation, Superior Staffing Services Inc., Tata America International Corp, Tech Providers Inc., Technology Solutions Provider Inc., Teksystems, The Experts Inc., TM Floyd and Company, Trinity Government SYS a Private Co, Verizon Network Integration Corp, Vision Information Technologies Inc., Volt Services Group, and Wipro Ltd, and Including Virtual Workers Across the United States, Plano, TX; Amended Certification Regarding Eligibility To Apply for Worker Adjustment Assistance

In accordance with Section 223 of the Trade Act of 1974, as amended (“Act”), 19 U.S.C. 2273, the Department of Labor issued a Certification of Eligibility to Apply for Worker Adjustment Assistance on February 4, 2010, applicable to workers of EDS, an HP Company (Re-branded as HP—Enterprise Services) Plano, Texas, including on-site leased workers listed above. The notice was published in the Federal Register on March 12, 2010 (75 FR 11924).

At the request of a company official, the Department reviewed the certification for workers of the subject firm. The workers are engaged in activities related to information technology (IT) services.

New information shows that worker separations have occurred involving virtual employees across the United States under the control of the Plano, Texas location of EDS, an HP Company (Re-branded as HP—Enterprise Services). These employees provided various activities related to the supply of information technology (IT) services.

Based on these findings, the Department is amending this certification to include virtual employees of the Plano, Texas facility of the subject firm working off-site across the United States.

The intent of the Department's certification is to include all workers of the subject firm who were adversely affected by a shift in information technology (IT) services to India, Brazil and Argentina.

The amended notice applicable to TA-W-72,519 is hereby issued as follows:

All workers of EDS, an HP Company (re-branded as HP—Enterprise Services), Plano, Texas, including on-site leased workers from Abel Personnel Inc., Advantage Tech Inc., Aerotek, Allied Network Solutions Inc., Analysts International Corp., AppleOne, Assist Cornerstone Technologies, Banctec Inc., Bucher and Christian Consulting Inc., Ciber Inc., Compucom Systems Compuware Corp Comsys Information Technology SVC, Diversified Systems Inc., E-Corn LLC, Farrington Associates Inc., Kelly Services Inc., Logica North America Inc., Manpower Inc. Clerical, Manpower Inc.—Technical, Microsoft Corp, Ntelicor, OAO Technology Solutions Inc., Optimum Technology, Oracle USA Inc., Pinnacle Technical Resources Inc., Professional Data Dimensions, Randstad Staffing Services, S2tech, Sethi Business Group, Smartit Staffing Inc., Spherion Corporation, Superior Staffing Services Inc., Tata America International Corp, Tech Providers Inc., Technology Solutions Provider Inc., Teksystems, The Experts Inc., TM Floyd and Company, Trinity Government SYS a Private Co, Verizon Network Integration Corp., Vision Information Technologies Inc., Volt Services Group, and Wipro Ltd, and including virtual workers across the United States reporting to Plano, Texas, who became totally or partially separated from employment on or after October 5, 2008, through February 4, 2012, and all workers in the group threatened with total or partial separation from employment on date of certification through two years from the date of certification, are eligible to apply for adjustment assistance under Chapter 2 of Title II of the Trade Act of 1974, as amended.

Signed in Washington, DC, this 29th day of September 2010.
Elliott S. Kushner,
Certifying Officer, Division of Trade Adjustment Assistance.

[FR Doc. 2010-25402 Filed 10-7-10; 8:45 am]

BILLING CODE 4510-FN-P